DEPARTMENT OF COMMERCE

National Oceanic and Atmospheric Administration

RIN 0648-XU53

Notice of Public Scoping Meetings for the Environmental Impact Statement on the Effects of Oil and Gas Activities in the Arctic Ocean

AGENCY: National Marine Fisheries Service (NMFS), National Oceanic and Atmospheric Administration (NOAA), Commerce.

ACTION: Notice of public scoping meetings.

SUMMARY: NMFS will hold five public scoping meetings in March 2010 to receive public comments on NMFS' intent to prepare an environmental impact statement (EIS) on the effects of oil and gas activities (e.g., seismic surveys and exploratory drilling) in the Arctic Ocean (U.S. Chukchi and Beaufort Seas).

DATES: The comment period for the scoping process is from February 8, 2010, through April 9, 2010. See SUPPLEMENTARY INFORMATION under the “Meeting Dates, Times, and Locations” heading for the dates and locations of the public scoping meetings.

ADDRESSES: The public has the opportunity to submit comments and statements regarding NMFS' intent to prepare this EIS using the following methods:

• Mail: P. Michael Payne, Chief, Permits, Conservation and Education Division, Office of Protected Resources, NMFS, 1315 East-West Highway, Silver Spring, MD 20910;

• Facsimile (fax) to: (301) 713-0376;

• E-mail to: arcticeis.comments@noaa.gov; or

• Public hearings: submit oral or written comments at public scoping meetings.

Comments sent via e-mail, including all attachments, must not exceed a 10-megabyte file size. Information on this project can also be found on the Protected Resources webpage at: http://www.nmfs.noaa.gov/pr/permits/eis/arctic.htm.

FOR FURTHER INFORMATION CONTACT: Michael Payne, Office of Protected Resources, NMFS, (301) 713-2289 ext. 110.

SUPPLEMENTARY INFORMATION:

Background

On February 8, 2010 (75 FR 6175), NMFS announced its intent to prepare an EIS on the effects of oil and gas activities in the U.S. Chukchi and Beaufort Seas. In that notice, NMFS announced that it would hold a total of eight public scoping meetings in February and March 2010. However, the February 8, 2010 (75 FR 6175), notice only provided dates, times, and locations for the first three meetings.

NMFS has scheduled additional public scoping meetings to be held in Wainwright, Barrow, Nuiqsut, Kaktovik, and Anchorage. The purposes of these meetings are to provide an opportunity for the public to learn about the proposed action, identify issues to be addressed in the EIS process, and to submit oral or written comments on this proposal.

Meeting Dates, Times, and Locations

The dates, times, and locations of the public scoping meetings are as follows:

(1) March 9, 2010, 7 - 9 p.m., Wainwright Community Center, Wainwright, Alaska;

(2) March 10, 2010, 7:30 - 9:30 p.m., Inupiat Heritage Center, Barrow, Alaska;

(3) March 11, 2010, 7 - 9 p.m., Nuiqsut Community Center, Nuiqsut, Alaska;

(4) March 12, 2010, 6:30 - 8:30 p.m., Kaktovik Community Center, Kaktovik, Alaska; and

(5) March 23, 2010, 7 - 9 p.m., Egan Center, 555 West Fifth Avenue, Anchorage, Alaska 99501.

Special Accommodations

These meetings are accessible to people with disabilities. Requests for sign language interpretation or auxiliary aids should be directed to Sheyna Wisdom by telephone at (907) 261-6705 or by e-mail at Sheyna_Wisdom@URSCorp.com at least 7 days before the scheduled meeting date.

Dated: February 18, 2010.
Wanda L. Cain,
Acting Deputy Director, Office of Protected Resources, National Marine Fisheries Service.

[FR Doc. 2010-3750 Filed 2-23-10; 8:45 am]

BILLING CODE 3510-22-S